DEPARTMENT OF INTERIOR

National Park Service

[NPS-NRSS-EQD-SSB-17987; PPWONRADI1, PPMRSNR1Y.AM0000]

Proposed Information Collection: Use of iNaturalist by the National Park Service To Record Natural History Observations

AGENCY: National Park Service, Interior.

ACTION: Notice; request for comments.

SUMMARY: We (National Park Service) will ask the Office of Management and Budget (OMB) to approve a new information collection (IC) that will be used by the public to collect and record natural history observations at selected NPS parks and sponsored events. As required by the Paperwork Reduction Act of 1995 and as part of our continuing efforts to reduce paperwork and respondent burden, we invite the general public and other federal agencies to take this opportunity to comment on this IC. A federal agency may not conduct or sponsor, and a person is not required to respond to, a collection of information unless it displays a currently valid OMB control number.

DATES: To ensure that your comments on this IC are considered, we must receive them on or before June 8, 2015.

ADDRESSES: Direct all written comments on this IC to Phadrea Ponds, Information Collection Coordinator, National Park Service, 1201 Oakridge Drive, Fort Collins, CO 80525 (mail); or phadrea_ponds@nps.gov (email). Please reference Information Collection 1024-iNAT in the subject line.

FOR FURTHER INFORMATION CONTACT: Margaret Beer, National Park Service Inventory and Monitoring Division, 1201 Oakridge Drive, Suite 150, Fort Collins, CO 80525 (mail); margaret_beer@nps.gov (email); or: 970-267-2168 (phone).

SUPPLEMENTARY INFORMATION:

I. Abstract

The NPS is in the process of developing a partnership with the California Academy of Sciences to use its iNaturalist web-based and mobile applications to digitally record natural history observations during selected NPS parks and sponsored events. This information will be recorded by park visitor participants to help verify and substantiate the presence of wildlife and plant species in over 300 NPS units. Because the parks have no formal mechanism for visitors to contribute natural history observations to our current listings, we are requesting to use iNaturalist as a platform to submit observations that can be used by NPS.

II. Data

OMB Number: None. This is a new collection.

Title: Use of iNaturalist by the National Park Service to Record Natural History Observations.

Type of Request: New.

Affected Public: General public, individual households, and non-federal scientists.

Respondent Obligation: Voluntary.

Frequency of Collection: One-time.

Estimated Number of Annual Responses: 2,500 (2,000 public and 500 non-federal scientists).

Annual Burden Hours: We estimate the total annual burden for this collection will be 2,083 hours (50 minutes per respondent).

Estimated Reporting and Recordkeeping “Non-Hour Cost” Burden: We have not identified any “non-hour cost” burdens associated with this collection of information.

III. Request for Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: April 2, 2015.
Madonna L. Baucum,
Information Collection Clearance Officer, National Park Service.

[FR Doc. 2015-08146 Filed 4-8-15; 8:45 am]

BILLING CODE 4310-EH-P